DEPARTMENT OF LABOR

Occupational Safety and Health Administration

29 CFR Part 1910

[Docket Number: OSHA-2007-0073]

RIN 1218-AC17

Emergency Response and Preparedness

AGENCY: Occupational Safety and Health Administration (OSHA), Labor.

ACTION: Notice of stakeholder meeting.

SUMMARY: OSHA invites interested parties to participate in an informal stakeholder meeting on emergency response and preparedness. OSHA plans to use the information obtained at the stakeholder meeting as it considers the development of a proposed standard for emergency response and preparedness.

DATES: Date and location for the stakeholder meeting are: July 30, 2014, at 9:00 a.m., in Washington, DC. If needed, a second session will be held July 31, 2014.

The deadline to request registration for the meeting is July 2, 2014.

ADDRESSES:

I. Registration

Submit your request to attend the stakeholder meeting by one of the following methods:

• Electronic. Register at http://ersregistration.pec1.net/ (follow the instructions online).

• Facsimile. Fax your request to (240) 686-3959 and label it “Attention: OSHA Emergency Response and Preparedness Stakeholder Meeting Registration.”

• Regular or express mail, hand delivery, or messenger (courier) service. Send your request, postmarked by July 2, to: Project Enhancement Corporation, 20300 Century Blvd. Ste. 175, Germantown, MD 20874; Attention: OSHA Emergency Response and Preparedness Stakeholder Meeting Registration.

II. Stakeholder Meeting

The stakeholder meeting will be held at the Frances Perkins Building, 200 Constitution Avenue NW., Washington, DC, 20210.

FOR FURTHER INFORMATION CONTACT: Information regarding this notice is available from the following sources:

• Press inquiries. Contact Frank Meilinger, Director, OSHA Office of Communications, Room N-3647, U.S. Department of Labor, 200 Constitution Avenue NW., Washington, DC, 20210; telephone: (202) 693-1999; email: Meilinger.Francis2@dol.gov.

• General and technical information. Contact Mat Chibbaro or Bill Hamilton, Fire Protection Engineers, Office of Safety Systems, OSHA Directorate of Standards and Guidance, Room N-3609, U.S. Department of Labor, 200 Constitution Avenue NW., Washington, DC, 20210; telephone: (202) 693-2255; email: Chibbaro.Mat@dol.gov or Hamilton.Bill@dol.gov.

• Copies of this Federal Register notice. Electronic copies are available at http://www.regulations.gov. This Federal Register notice, as well as news releases and other relevant information and documents, also are available on the OSHA Web page at http://www.osha.gov.

SUPPLEMENTARY INFORMATION:

I. Background

Emergency response is one of the most hazardous occupations in America (see the National Fire Protection Association report “Firefighter Fatalities in the United States—2012” and the 2012 Federal Emergency Management Agency report “Firefighter Fatalities in the United States in 2012”). Emergency responders include firefighters, emergency medical service personnel, hazardous material employees, and technical rescue specialists. Also, law enforcement officers usually are considered emergency responders because they often assist in emergency response incidents. OSHA notes, however, that there are no standards issued by the Agency that specifically address occupational hazards uniquely related to law enforcement activities. Many emergency responders have cross training in these specialties, and may serve in multiple roles depending upon the type of emergency incident involved. Skilled support employees are not emergency responders, but nonetheless have specialized training that can be important to the safe and successful resolution of an emergency incident.

The Agency issued a Request for Information (RFI) (74 FR 51735, Sept. 11, 2007) that solicited comments from the public to evaluate what action, if any, the Agency should take to further address emergency response and preparedness. Recent events, such as the April 2013 tragedy in West, Texas, that killed several emergency responders, and an analysis of the information provided in response to the 2007 RFI, make it clear that emergency responder health and safety continues to be an area of ongoing concern. Accordingly, OSHA determined it would be beneficial to hold a stakeholder meeting to gather additional information. OSHA plans to use the information received in response to the 2007 RFI and obtained at this stakeholder meeting when considering a proposed standard for emergency response and preparedness.

II. Stakeholder Meeting

OSHA will conduct the stakeholder meeting as a group discussion addressing views, concerns, and issues surrounding emergency response and preparedness. To facilitate as much group interaction as possible, OSHA is not permitting formal presentations. OSHA will focus the meeting on major issues such as scope and approach. OSHA will provide participants with additional information on the major issues for discussion prior to the meeting.

III. Public Participation

The meeting will accommodate about 20 participants. Members of the general public (if registered) may observe, but not participate in, the meeting if space permits. OSHA staff will be present to take part in the discussions. PEC Solutions, Inc. (PEC) is managing the logistics for the meeting. Accordingly, PEC will provide a facilitator and compile notes summarizing the discussion; these notes will list participants and their affiliations, but will not attribute specific comments to individual speakers. PEC also will make an audio recording of each session to ensure that the summary notes are accurate, but will not transcribe these recordings. OSHA will post the summary notes in the docket for this rulemaking, Docket No. OSHA 2007-0073; the docket is available at http://www.regulations.gov and OSHA's Docket Office.

The meeting will take place July 30, 2014, from 9:00 a.m. to 4:00 p.m., at the Frances Perkins Building, 200 Constitution Avenue NW., Washington, DC, 20210. Based on the number of interested participants, OSHA may hold a second meeting on July 31, 2014.

To participate in the stakeholder meeting, or to be a nonparticipating observer, you must submit a request using one of the three methods specified above under ADDRESSES by the deadline specified under DATES. OSHA will select participants to ensure a fair representation of interests and diverse viewpoints, and will send you confirmation of your registration no later than one week prior to the meeting. OSHA will not accommodate walk-in attendees at the meeting. When submitting your request, please provide the following information:

• Name, address, phone, fax, and email;

• Organization for which you work;

• Organization you represent (if different);

• Participant or nonparticipating observer; and

• Stakeholder category: public fire/rescue service, federal fire/rescue service, contract fire/rescue service, private fire brigade, emergency medical service, technical rescue, emergency management, law enforcement, other (please specify).

Authority and Signature

David Michaels, Ph.D., MPH, Assistant Secretary of Labor for Occupational Safety and Health, U.S. Department of Labor, authorized the preparation of this notice pursuant to 29 U.S.C. 653, 655, and 657, Secretary of Labor's Order No. 1-2012 (77 FR 3912; Jan. 25, 2012), and 29 CFR part 1911.

Signed at Washington, DC, on May 28, 2014.
David Michaels,
Assistant Secretary of Labor for Occupational Safety and Health.

[FR Doc. 2014-12928 Filed 6-3-14; 8:45 am]

BILLING CODE 4510-26-P